DEPARTMENT OF COMMERCE

National Oceanic and Atmospheric Administration

RIN 0648-XG190

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one day meeting of its Outreach and Education Technical Committee.

DATES: The meeting will convene on Thursday, May 10, 2018, from 8:30 a.m. to 4 p.m., EDT.

ADDRESSES: The meeting will be held at the Gulf of Mexico Fishery Management Council Office, 2203 N Lois Avenue, Suite 1100, Tampa, FL 33607; telephone: (813) 348-1630.

FOR FURTHER INFORMATION CONTACT: Emily Muehlstein, Public Information Officer, Gulf of Mexico Fishery Management Council; emily.muehlstein@gulfcouncil.org, telephone: (813) 348-1630.

SUPPLEMENTARY INFORMATION:

Thursday, May 10, 2018; 8:30 a.m. until 4 p.m.

Agenda

The committee will begin with introductions and adoption of agenda, approval of the August 2017 meeting summary. The committee will review the Gulf Council's policy on the use of venting tools and descending devices and discuss an outreach plan to promote the policy.

The committee will review a Council effort to collect anecdotal data to supplement stock assessments and inform the Council and its Scientific and Statistical Committee.

Finally, the Committee will discuss the utility of improving the regulations APP.

Meeting Adjourns—

The meeting will be broadcast via webinar. You may listen in by registering for the webinar by visiting www.gulfcouncil.org and clicking on the Outreach & Education Technical Committee meeting on the calendar. https://attendee.gotowebinar.com/register/3383291116212545537-. The Agenda is subject to change, and the latest version along with other meeting materials will be posted on www.gulfcouncil.org as they become available.

Although other non-emergency issues not on the agenda may come before the Technical Committee for discussion, in accordance with the Magnuson-Stevens Fishery Conservation and Management Act, those issues may not be the subject of formal action during this meeting. Actions of the Technical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: April 23, 2018.
Tracey L. Thompson,
Acting Deputy Director, Office of Sustainable Fisheries, National Marine Fisheries Service.

[FR Doc. 2018-08802 Filed 4-25-18; 8:45 am]

BILLING CODE 3510-22-P